DEPARTMENT OF HOMELAND SECURITY

U.S. Customs and Border Protection

[Docket No. USCBP-2013-0016]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on May 22, 2013, in Washington, DC. The meeting will be open to the public.

DATES: COAC will meet on Wednesday, May 22, 2013, from 1:00 p.m. to 4:30 p.m. e.s.t. Please note that the meeting may close early if the committee has completed its business.

Pre-Registration: Meeting participants may attend either in person or via webinar after pre-registering using a method indicated below:

—For members of the public who plan to attend the meeting in person, please register either online at https://apps.cbp.gov/te_registration/?w=5; by email to tradeevents@dhs.gov; or by fax to 202-325-4290 by 5:00 p.m. e.s.t. on May 20, 2013.

—For members of the public who plan to participate via webinar, please register online at https://apps.cbp.gov/te_registration/?w=6 by 5:00 p.m. e.s.t. on May 20, 2013.

Feel free to share this information with other interested members of the organization or association. Members of the public that are pre-registered and later require cancellation, kindly do so in advance of the meeting by accessing one of the following links: https://apps.cbp.gov/te_registration/cancel.asp?w=5 to cancel an in person registration or https://apps/cbp.gov/te_registration/cancel.asp?w=6 to cancel a webinar registration.

ADDRESSES: The meeting will be held at the U.S. International Trade Commission (USITC) in Main Hearing Room 101, 500 E Street SW., Washington, DC 20436. All visitors to the USITC Building must show a state-issued ID or Passport to proceed through the security checkpoint for admittance to the building.

For information on facilities or services for individuals with disabilities or to request special assistance at the meeting, contact Ms. Wanda Tate, Office of Trade Relations, U.S. Customs and Border Protection at 202-344-1661 as soon as possible.

To facilitate public participation, we are inviting public comment on the issues to be considered by the committee prior to the formulation of recommendations as listed in the “Agenda” section below.

Comments must be submitted in writing no later than May 13, 2013, and must be identified by USCBP-2013-0016 and may be submitted by one of the following methods:

• Federal eRulemaking Portal: http://www.regulations.gov. Follow the instructions for submitting comments.

• Email: Tradeevents@dhs.gov. Include the docket number in the subject line of the message.

• Fax: 202-325-4290

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket to read background documents or comments received by the COAC, go to http://www.regulations.gov.

There will be three public comment periods held during the meeting on May 22, 2013. Speakers are requested to limit their comments to two (2) minutes or less to facilitate greater participation. Contact the individual listed below to register as a speaker. Please note that the public comment period for speakers may end before the time indicated on the schedule that is posted on the CBP Web page at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS and the Department of the Treasury.

Agenda

The COAC will hear from the following project leaders and subcommittees on the topics listed below and then will review, deliberate, provide observations and formulate recommendations on how to proceed on those topics:

1. Review, Discuss, and Approve the COAC Annual Trade Efficiency Survey for distribution by June 2013 and discuss feedback on past COAC recommendations.

2. Review and Discuss Next Steps regarding the Exports Subcommittee and the Work Completed by the Export Mapping Working Group (EMWG) to date.

3. Review and Discuss the Global Supply Chain Subcommittee's Air Cargo Advance Screening (ACAS) Working Group and address Next Steps regarding Land Border issues in the area of Beyond the Border and 21st Century Initiatives.

4. Review and Discuss Next Steps of the Trusted Trader Subcommittee and the Work Completed by the Industry Standards Working Group (ISWG) and the Trusted Trader Measures Working Group.

5. Review and Discuss Next steps regarding the One U.S. Government at the Border Subcommittee and the work to date on the Food and Drug Administration (FDA) Working Group and the Environmental Protection Agency (EPA) Working Group.

6. Review and Discuss Next Steps of the Trade Modernization Subcommittee which will address the Automated Commercial Environment vendor survey results and the analysis of the Centers of Excellence and Expertise (CEE) survey.

7. Review and Discuss Next Steps of the Trade Enforcement and Revenue Collection Subcommittee and the Work Completed to date on the Regulatory Audit Working Group's findings on the planned enhancements for the Focused Assessment process and the Intellectual Property Rights Working Group's effort to further evaluate the use of the Global Shipment Identification Number (GSIN) as a possible tool for use in Distribution Chain Management in Intellectual Property Rights Compliance.

Dated: April 30, 2013.
Maria Luisa Boyce,
Senior Advisor for Private Sector Engagement, Office of Trade Relations.

[FR Doc. 2013-10647 Filed 5-3-13; 8:45 am]

BILLING CODE 9111-14-P